SMALL BUSINESS ADMINISTRATION

[License No. 06/06-0356]

Independent Bankers Capital Fund IV, L.P.; Notice Seeking Exemption Under Section 312 of the Small Business Investment Act, Conflicts of Interest

Notice is hereby given that Independent Bankers Capital Fund IV, L.P., 5949 Sherry Lane, Suite 1472, Dallas, TX 75225, a Federal Licensee under the Small Business Investment Act of 1958, as amended (“the Act”), in connection with the financing of a small concern, has sought an exemption under section 312 of the Act and section 107.730, Financings which Constitute Conflict of Interest of the Small Business Administration (“SBA”) Rules and Regulations (13 CFR 107.730). Independent Bankers Capital Fund IV, L.P. (“IBCF IV”) is proposing to provide financing to Central States Bus Sales, Inc. (“Company”) to support the Company's growth.

The proposed transaction is brought within the purview of § 107.730 of the Regulations because Diamond State Ventures II, L.P. (“DSV”), an Associate of IBCF IV as defined in § 107.50, holds a 25% of equity interest in the Company. By virtue of DSV's equity ownership, the Company and IBCF IV are also Associates. DSV expects to receive $8.122 million from the proposed transaction.

Therefore, the proposed transaction requires a regulatory exemption pursuant to 13 CFR 107.730. Notice is hereby given that any interested person may submit written comments on the transaction within fifteen days of the date of this publication to Associate Administrator for Investment, U.S. Small Business Administration, 409 Third Street SW, Washington, DC 20416.

Bailey DeVries,
Associate Administrator, Office of Investment and Innovation, U.S. Small Business Administration.

[FR Doc. 2024-00013 Filed 1-4-24; 8:45 am]

BILLING CODE P